DEPARTMENT OF HEALTH AND HUMAN SERVICES

Agency for Toxic Substances and Disease Registry

[30Day-11-09BK]

Agency Forms Undergoing Paperwork Reduction Act Review

The Agency for Toxic Substances and Disease Registry (ATSDR) publishes a list of information collection requests under review by the Office of Management and Budget (OMB) in compliance with the Paperwork Reduction Act (44 U.S.C. Chapter 35). To request a copy of these requests, call the CDC/ATSDR Reports Clearance Officer at (404) 639-5960 or send an email to omb@cdc.gov. Send written comments to CDC Desk Officer, Office of Management and Budget, Washington, DC or by fax to (202) 395-5806. Written comments should be received within 30 days of this notice.

Proposed Project

Registration of Individuals Displaced by the Hurricanes Katrina and Rita (Pilot Project)—New—Agency for Toxic Substances and Disease Registry (ATSDR), Office of Noncommunicable Diseases, Injury, and Environmental Health (ONDIEH), Centers for Disease Control and Prevention (CDC).

Background and Brief Description

On August 29, 2005, Hurricane Katrina made landfall on the coast of the Gulf of Mexico near New Orleans, Louisiana, and became one of the most deadly and destructive storms in U.S. history. Also occurring in 2005, Hurricane Rita was the fourth-most intense Atlantic hurricane ever recorded and the most intense tropical cyclone ever observed in the Gulf of Mexico. Following the initial phase of the response, the Federal Emergency Management Agency (FEMA) assumed the primary role for housing displaced persons over the intermediate term. To support those needing temporary housing, FEMA provided over 143,000 travel trailers, park homes, and mobile homes for persons displaced by the above mentioned storms. However, some persons living in trailers complained of an odor or of eye or respiratory tract irritation.

FEMA entered into an Interagency Agreement with the Centers for Disease Control and Prevention (CDC)/ATSDR on August 16, 2007 to conduct a comprehensive public health assessment, based on objective and credible research, of air quality conditions present in FEMA housing units to guide FEMA policy makers and inform the public as to the actual conditions in the field and any actions required to better promote a safe and healthful environment for the disaster victims FEMA housed in the units. FEMA's agreement with the CDC includes an initial formaldehyde exposure assessment as well as a subsequent long-term study of the health effects among residents if feasible. Formaldehyde testing conducted and evaluated by the CDC pursuant to the initial exposure assessment has identified the need to evaluate the feasibility of establishing a national registry to identify and monitor the health of disaster victims who occupied FEMA-provided temporary housing units. The establishment of such a registry would complement the long-term health effects study set forth in the FEMA-CDC Interagency Agreement.

The goal of the proposed pilot registry will be to test the feasibility of contacting and enrolling members of the targeted group in a registry.

A pre-registration dataset will be created before enrollment. This dataset will be populated with contact information of the exposed population—occupants of temporary housing units. FEMA will provide the dataset for this pilot registry.

A computer-assisted telephone interview (CATI) system based on a paper questionnaire will be used during all interviews to collect data for this project. The first part will consist of screening questions to determine eligibility for enrollment. The second part will contain contact information of the registrant and other household members, demographics, and health status questions focusing on respiratory outcomes and cancer.

The registry will include respondents who occupied FEMA-provided temporary housing units. The two-minute screening questionnaire will be administered to a total of 8,000 respondents. Annualized over a two year period, 4,000 respondents will be screened. The 25 minute main questionnaire will be administered to a total of 5,000 respondents. Annualized over a two year period, 2,500 temporary housing unit occupants will complete the main questionnaire.

There are no costs to the respondents other than their time. The total estimated annual burden hours are 1176.

Dated: March 23, 2011.
Daniel Holcomb,
Reports Clearance Officer, Agency for Toxic Substances and Disease Registry.

[FR Doc. 2011-7580 Filed 3-30-11; 8:45 am]

BILLING CODE 4163-18-P